DEPARTMENT OF DEFENSE

Department of the Air Force

Notice of Intent To Grant an Exclusive Patent License

AGENCY: Department of the Air Force, Department of Defense.

ACTION: Notice of intent.

SUMMARY: Pursuant to the Bayh-Dole Act, and implementing regulations, the Department of the Air Force hereby gives notice of its intent to grant an exclusive patent license to Targeted Endo, LLC, a small business and limited liability corporation having a place of business at P.O. Box 646, Golden, CO 80402.

DATES: Written objections must be filed no later than fifteen (15) calendar days after the date of publication of this Notice.

ADDRESSES: Submit written objections to Chastity D.S. Whitaker, Ph.D., Air Force Materiel Command Law Office, AFMCLO/JAZ, 2240 B Street, Area B, Building 11, Wright-Patterson AFB, OH 45433-7109; Facsimile: (937) 255-9318; or Email: afmclo.jaz.tech@us.af.mil. Include Docket No. A59-201207A-PL in the subject line of the message.

FOR FURTHER INFORMATION CONTACT: Chastity D.S. Whitaker, Ph.D., Air Force Materiel Command Law Office, AFMCLO/JAZ, 2240 B Street, Area B, Building 11, Wright-Patterson AFB, OH 45433-7109; Telephone: (937) 904-5787; Facsimile: (937) 255-9318; or Email: afmclo.jaz.tech@us.af.mil.

SUPPLEMENTARY INFORMATION:

Abstract of Patent Application(s)

Devices and methods for guided endodontic micro-surgery using trephine burs. The device includes a surgical guide comprising a dentate guard and a port extending from the dentate guard. The dentate guard is configured to conform to dentition of a patient proximate to a surgical site. The port has a bore extending therethrough such that a distal end of the bore terminates at the surgical site. The port, and its bore, are configured to receive a trephine bur for the EMS procedure at the surgical site.

Intellectual Property

U.S. Application Publication No. 2019/0328486, published October 31, 2019, and entitled Guided endodontic micro-surgery (EMS) with trephine burs.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2021-00403 Filed 1-11-21; 8:45 am]

BILLING CODE 5001-10-P